DEPARTMENT OF ENERGY

National Nuclear Security Administration

Extension of Scoping Period for the Notice of Intent To Prepare a Site-Wide Environmental Impact Statement

AGENCY: National Nuclear Security Administration, DOE.

SUMMARY: The National Nuclear Security Administration (NNSA), an agency within the U.S. Department of Energy (DOE), is extending the scoping period for the Site-Wide Environmental Impact Statement (SWEIS) for the Y-12 National Security Complex (Y-12), located at the junction of Bear Creek Road and Scarboro Road in Anderson County, Tennessee, near the City of Oak Ridge, Tennessee.

DATES: The scoping period for the SWEIS is extended from January 9, 2006 to January 31, 2006. Comments received after that date will be considered to the extent practicable.

ADDRESSES: For information concerning the SWEIS, please contact Ms. Pam Gorman, Y-12 SWEIS Document Manager at (865) 576-9903 or e-mail at: gormanpl@yso.doe.gov. Written comments on the scope of SWEIS can be sent to: Y-12 SWEIS Document Manager, 800 Oak Ridge Turnpike, Suite A-500, Oak Ridge, Tennessee 37830; by facsimile to: (865) 482-6052 or by e-mail to: comments@y-12sweis.com.

FOR FURTHER INFORMATION CONTACT: For information about the DOE NEPA process, please contact: Ms. Carol Borgstrom, Director, Office of NEPA Policy and Compliance (EH-42), U.S. Department of Energy, 1000 Independence Avenue, SW., Washington, DC 20585, (202) 586-4600, or leave a message at 1-800-472-2756.

SUPPLEMENTARY INFORMATION: On November 28, 2005 (70 FR 71270), NNSA issued an Notice of Intent (NOI) to prepare an SWEIS for the Y-12 National Security Complex. As originally announced in the NOI, DOE has conducted public scoping meetings on the SWEIS in Oak Ridge, Tennessee on December 15, 2005. The original public scoping period was to continue until January 9, 2006. However, in response to public comments, DOE is extending the public scoping period until January 31, 2006.

Issued in Washington, DC on January 3, 2006.
Alice C. Williams,
NNSA NEPA Compliance Officer.

[FR Doc. E6-32 Filed 1-5-06; 8:45 am]

BILLING CODE 6450-01-P